DEPARTMENT OF THE INTERIOR

Bureau of Indian Affairs

Indian Gaming

AGENCY: Bureau of Indian Affairs, Interior.

ACTION: Notice of Approved Tribal-State Compact Amendment.

SUMMARY: This notice publishes approval of the 2010 Amendments to the Menominee Indian Tribe of Wisconsin (“Tribe”) and the State of Wisconsin Gaming Compact of 1992, as Amended in 1999, 2000, and 2003.

DATES: Effective Date: January 3, 2011.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act of 1988 (IGRA), Public Law 100-497, 25 U.S.C. 2710, the Secretary of the Interior shall publish in the Federal Register notice of approved Tribal-State compacts for the purpose of engaging in Class III gaming activities on Indian lands. This Amendment changes the existing duration of the compact from perpetuity to a 25-year term. It also allows the Tribe to reduce the annual revenue sharing payment so long as the money withheld is directed towards various Tribal services benefitting Tribal members.

Dated: December 22, 2010.
Donald Laverdure,
Deputy Assistant Secretary—Indian Affairs.

[FR Doc. 2010-33094 Filed 12-30-10; 8:45 am]

BILLING CODE 4310-4N-P